DEPARTMENT OF JUSTICE

Antitrust Division

Notice Pursuant to the National Cooperative Research and Production Act of 1993—Digital Manufacturing Design Innovation Institute

Notice is hereby given that, on June 26, 2017, pursuant to Section 6(a) of the National Cooperative Research and Production Act of 1993, 15 U.S.C. 4301 et seq. (“the Act”), the Digital Manufacturing Design Innovation Institute (“DMDII”) has filed written notifications simultaneously with the Attorney General and the Federal Trade Commission disclosing changes in its membership. The notifications were filed for the purpose of extending the Act's provisions limiting the recovery of antitrust plaintiffs to actual damages under specified circumstances. Specifically, the following parties have been added as members to this venture: Lawrence Technological University, Southfield, MI; University of North Carolina at Charlotte, Charlotte, NC; AMI Global, Las Vegas, NV; Amper Technologies, Evanston, IL; Autodesk, San Rafael, CA; C-Labs Corporation, Bellevue, WA; Connected Global Factory (SearchLight), Ann Arbor, MI; Dozuki, San Luis Obispo, CA; E-gineering, Indianapolis, IN; Godwin Global, Charlotte, NC; NarrativeWave, Irvine, CA; Omative, Cincinnati, OH; Quality Tools & Abrasives Inc., Elk Grove Village, IL; SensrTrx, St. Louis, MO; Tulip, Milwaukee, WI; TYGES International, Williamsburg, VA; Universal Technical Resources, Cherry Hill, NJ; Verena Solutions LLC, Chicago, IL; and Warwick Analytics, Los Altos, CA, have been added as parties to this venture.

Also, VTOL, Oak Lawn, IL; Affinegy, Inc., Austin, TX; Allied Plastics, Twin Lakes, WI; RECON Services, East Berlin, PA; Bi-Link, Bloomingdale, IN; Graphicast, Jaffrey, NH; Cummins, Columbus, IN; UL LLC, Chicago, IL; Steel Founders Society of America (SFSA), Crystal Lake, IL; McMaster Carr Supply Chain Company, Elmhurst, IL; Pella Corporation, Pella, IA; ABB, Inc, Bloomfield, CT; Moog, East Aurora, NY; BAE Systems Land & Armaments, L.P. York, PA; Teradyne, North Reading, MA; Westinghouse Electric Company, Cranberry Township, PA; University of Delaware, Newark, DE; and University of Louisville, Louisville, KY, have withdrawn as a parties to this venture.

No other changes have been made in either the membership or planned activity of the group research project. Membership in this group research project remains open, and DMDII intends to file additional written notifications disclosing all changes in membership.

On January 5, 2016, DMDII filed its original notification pursuant to Section 6(a) of the Act. The Department of Justice published a notice in the Federal Register pursuant to Section 6(b) of the Act on March 9, 2016 (81 FR 12525).

The last notification was filed with the Department on January 31, 2017. A notice was published in the Federal Register pursuant to Section 6(b) of the Act on March 16, 2017 (82 FR 14033).

Patricia A. Brink,
Director of Civil Enforcement, Antitrust Division.

[FR Doc. 2017-17159 Filed 8-14-17; 8:45 am]

BILLING CODE P